DEPARTMENT OF THE TREASURY

Internal Revenue Service

26 CFR Part 1

[TD 9322]

RIN 1545-BG26

Anti-Avoidance and Anti-Loss Reimportation Rules Applicable Following a Loss on Disposition of Stock of Consolidated Subsidiaries; Correction

AGENCY: Internal Revenue Service (IRS), Treasury.

ACTION: Correction to final and temporary regulations.

SUMMARY: This document contains corrections to final and temporary regulations that was published in the Federal Register on Tuesday, April 10, 2007 (71 FR 17804) providing guidance to corporations filing consolidated returns and applying an anti-avoidance rule and revising an anti-loss reimportation rule that applies following a disposition of stock of a subsidiary at a loss.

FOR FURTHER INFORMATION CONTACT: Theresa Abell, (202) 622-7700 or Phoebe Bennett, (202) 622-7770 (not toll-free numbers).

SUPPLEMENTARY INFORMATION:

Background

The final and temporary regulations (TD 9322) that are the subject of these corrections are under section 1502 of the Internal Revenue Code.

Need for Correction

As published, these final and temporary regulations (TD 9322) contain errors that may prove to be misleading and are in need of clarification.

Correction of Publication

Accordingly, these final and temporary regulations (TD 9322) that were the subject of FR Doc. E7-6541, are corrected as follows:

1. On page 17805, column 1, in the preamble, under the paragraph heading “Background and Explanation of Provisions” paragraph 2, line 6 from the bottom of the column, the language “the loss reimportation rule is also” is corrected to read “the anti-loss reimportation rule is also”.

2. On page 17805, column 2, in the preamble, under the paragraph heading “Special Analyses”, line 5 from the top of the column, the language “U.S.C. 553(b)(B) that prior notice and” is corrected to read “U.S.C. 553(b)(3)(B) that prior notice and”.

3. On page 17805, column 2, in the preamble, under the paragraph heading “Special Analyses”, line 16 from the top of the column, the language “reference notice of the proposed” is corrected to read “reference notice of proposed”.

LaNita Van Dyke,
Branch Chief, Publications and Regulations Branch, Legal Processing Division, Office of Associate Chief Counsel (Procedure and Administration).

[FR Doc. E7-8316 Filed 4-30-07; 8:45 am]

BILLING CODE 4830-01-P